DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Western Alaska Community Development Quota (CDQ) Program.

OMB Control Number: 0648-0269.

Form Number(s): None.

Type of Request: Regular (extension of an approved collection).

Number of Respondents: 6.

Average Hours per Response: CDQ Vessel Registration System, 10 minutes; Groundfish/Halibut CDQ and PSQ Transfer Request, 30 minutes; Application for Approval of Use of Non-CDQ Harvest Regulations, 5 hours; Appeals, 4 hours.

Burden Hours: 46.

Needs and Uses: The Western Alaska Community Development Quota (CDQ) Program is an economic development program associated with federally managed fisheries in the Bering Sea and Aleutian Islands (BSAI). The purpose of the program is to provide eligible western Alaska communities with the opportunity to participate and invest in fisheries in the BSAI, to support economic development in western Alaska, to alleviate poverty and provide economic and social benefits to residents of western Alaska, and to achieve sustainable local economies in western Alaska. The Magnuson-Stevens Fishery Conservation and Management Act allocates a portion of the annual catch limit for each directed fishery of the BSAI management area among six non-profit entities (CDQ groups) that represent 65 western Alaska communities. The CDQ groups administer the CDQ allocations, investments, and economic development projects. The CDQ groups use the revenue derived from the harvest of their fisheries allocations to fund economic development activities and provide employment opportunities.

This information collection is comprised of four components.

• The CDQ Vessel Registration System is an online system used by the CDQ groups to add small hook-and-line catcher vessels to the CDQ vessel registration list. Registered vessels are exempt from the requirements to obtain and carry a License Limitation Program license under regulations at 50 part 679. This system is also used to remove vessels from the CDQ vessel registration list.

• The Groundfish/Halibut CDQ and Prohibited Species Quota (PSQ) Transfer Request form is used to transfer annual amounts of groundfish and halibut CDQ and halibut PSQ between two CDQ groups. This form is completed by the transferring and receiving CDQ groups.

• The Application for Approval of Use of Non-CDQ Harvest Regulations is used by a CDQ group, an association representing CDQ groups, or a voluntary fishing cooperative to request approval to use non CDQ harvest regulations when the CDQ regulations are more restrictive than the regulations otherwise required for participants in non-CDQ groundfish fisheries.

• An appeals process is provided for an applicant who receives an adverse initial administrative determination (IAD) related to its Application for Approval of Use of Non-CDQ Harvest Regulations. No such adverse IADs have been issued to date. In general, the cooperative managers present the cooperative reports during the April.

Affected Public: Businesses or other for-profit organizations.

Frequency: Periodically.

Respondent's Obligation: Mandatory; Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-00275 Filed 1-10-20; 8:45 am]

BILLING CODE 3510-22-P